Proclamation 9230 of January 30, 2015

National African American History Month, 2015

By the President of the United States of America

A Proclamation

For generations, the story of American progress has been shaped by the inextinguishable beliefs that change is always possible and a brighter future lies ahead. With tremendous strength and abiding resolve, our ancestors—some of whom were brought to this land in chains—have woven their resilient dignity into the fabric of our Nation and taught us that we are not trapped by the mistakes of history. It was these truths that found expression as foot soldiers and Freedom Riders sat in and stood up, marched and agitated for justice and equality. This audacious movement gave birth to a new era of civil and voting rights, and slowly, we renewed our commitment to an ideal at the heart of our founding: no matter who you are, what you look like, how modest your beginnings, or the circumstances of your birth, you deserve every opportunity to achieve your God-given potential.

As we mark National African American History Month, we celebrate giants of the civil rights movement and countless other men and women whose names are etched in the hearts of their loved ones and the cornerstones of the country they helped to change. We pause to reflect on our progress and our history—not only to remember, but also to acknowledge our unfinished work. We reject the false notion that our challenges lie only in the past, and we recommit to advancing what has been left undone.

Brave Americans did not struggle and sacrifice to secure fundamental rights for themselves and others only to see those rights denied to their children and grandchildren. Our Nation is still racked with division and poverty. Too many children live in crumbling neighborhoods, cycling through substandard schools and being affected by daily violence in their communities. And Americans of all races have seen their wages and incomes stagnate while inequality continues to hold back hardworking families and entire communities.

But the trajectory of our history gives us hope. Today, we stand on the shoulders of courageous individuals who endured the thumps of billy clubs, the blasts of fire hoses, and the pain of watching dreams be deferred and denied. We honor them by investing in those around us and doing all we can to ensure every American can reach their full potential. Our country is at its best when everyone is treated fairly and has the chance to build the future they seek for themselves and their family. This means providing the opportunity for every person in America to access a world-class education, safe and affordable housing, and the job training that will prepare them for the careers of tomorrow.

Like the countless, quiet heroes who worked and bled far from the public eye, we know that with enough effort, empathy, and perseverance, people who love their country can change it. Together, we can help our Nation live up to its immense promise. This month, let us continue that unending journey toward a more just, more equal, and more perfect Union.

NOW, THEREFORE, I, BARACK OBAMA, President of the United States of America, by virtue of the authority vested in me by the Constitution and the laws of the United States, do hereby proclaim February 2015 as National African American History Month. I call upon public officials, educators, librarians, and all the people of the United States to observe this month with appropriate programs, ceremonies, and activities.

IN WITNESS WHEREOF, I have hereunto set my hand this thirtieth day of January, in the year of our Lord two thousand fifteen, and of the Independence of the United States of America the two hundred and thirty-ninth.

[FR Doc. 2015-02374

Filed 2-3-15; 11:15 am]

Billing code 3295-F5